FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Ambassador International, Ltd. (NVO & OFF), 22455 Powers Court, Sterling, VA 20166, Officers: John D. Morrissette, President (QI), Arthur E. Morrissette, IV, Vice President, Application Type: QI Change

Carico USA, LLC (NVO & OFF), 4801 Woodway Drive, #300 East, Houston, TX 77056, Officers: Francisco Gonzalez, Managing Member (QI), Raul Amprimo, Member, Application Type: New NVO & OFF License

Gemini Logistics, Inc. (NVO & OFF), 8535 Posey Road, Jacksonville, FL 32220, Officers: Colleen E. Delk, Vice President (QI), Patricia C. Martinez, President, Application Type: New NVO & OFF License

LV Shipping (USA) Inc. (NVO & OFF), 19051 Kenswick Drive, Suite 190, Humble, TX 77338, Officers: Joseph Carrion, President (QI), Christopher Lewin, Secretary, Application Type: New NVO & OFF License

O.K. Cargo Corp. (OFF), 1720 NW 9th Avenue, Miami, FL 33172, Officers: Jorge L. Garcia, President (QI), Nora Garcia, Vice President, Application Type: New OFF

Ocean World Lines, Inc. (NVO), 1983 Marcus Avenue, Suite 100, Lake Success, New York 11042, Officers: Roland Cardoza, Regional Vice President (QI), Robert Noonan, President, Application Type: Additional QI

Next Day Cargo, Inc. (NVO), 8805 NW 35th Lane, Doral, FL 33172, Officers: Ramiro A. Abreu, President (QI), Marina G. Abreu, Vice President, Application Type: Add OFF Service

Nica Mar Corp. (NVO & OFF), 6890 NW 35th Avenue, Miami, FL 33147, Officers: Amarilis Flores, Secretary (QI), Geraldine Jerez, President, Application Type: New NVO & OFF License

Racon Line, Inc. (NVO), 15501 Texaco Avenue, Paramount, CA 90723, Officers: Maximiliaan Hoes, President (QI), Michele Blackmore, Vice President, Application Type: Name Change to CFR Rinkens, LLC

Radjames Mejia, Inc. dba MM Shipping (NVO), 1656-A 5th Avenue, Bay Shore, NY 11706, Officer: Radhames Mejia, President (QI), Application Type: New NVO License

RF International, Ltd. (OFF), 1983 Marcus Avenue, Suite 100, Lake Success, NY 11042, Officers: Roland Cardoza, Regional Vice President (QI), Robert Noonan, President, Application Type: Additional QI

By the Commission.
Dated: August 31, 2012.
Karen V. Gregory,
Secretary.

[FR Doc. 2012-21958 Filed 9-5-12; 8:45 am]

BILLING CODE 6730-01-P